DEPARTMENT OF HOMELAND SECURITY

Coast Guard

33 CFR Part 117

[Docket No. USCG-2014-0047]

Drawbridge Operation Regulation; Cape Fear River, Wilmington, NC

AGENCY: Coast Guard, DHS.

ACTION: Notice of deviation from drawbridge regulations.

SUMMARY: The Coast Guard has issued a temporary deviation from the operating schedule that governs the operation of the Cape Fear River Memorial Bridge, across the Cape Fear River, mile 26.8, at Wilmington, NC. The deviation is necessary to restrict the operation of the draw span to facilitate the biannual inspections.

DATES: This deviation is effective from 8 a.m. on March 17, 2014 until 4 p.m. on March 28, 2014.

ADDRESSES: The docket for this deviation, [USCG-2014-0047] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone (757) 398-6557, email James.L.Rousseau2@uscg.mil. If you have questions on reviewing the docket, call Cheryl Collins, Program Manager, Docket Operations, (202) 366-9826.

SUPPLEMENTARY INFORMATION: The North Carolina Department of Transportation, who owns and operates this vertical lift bridge, has requested a temporary deviation to conduct the biannual inspections.

The existing drawbridge operation regulation for the Cape Fear River Memorial Bridge is listed in 33 CFR 117.822. The regulation allows the bridge to remain closed to navigation once in both July and November to accommodate annual marathon races. The drawbridge opens on demand at all other times.

Under this temporary deviation, the drawbridge will be closed to navigation beginning each day from 8 a.m. to 4 p.m., on March 17, 2014 until March 28, 2014; however, vessel openings will be provided if at least two hours advance notice is given. At all other times, the drawbridge will operate under its normal schedule.

The Cape Fear River Memorial Bridge, at mile 26.8, at Wilmington, NC, has vertical clearances in the open and closed positions of 135 feet and 65 feet above mean high water, respectively. Typical vessel traffic on the Cape Fear River includes a variety of vessels from freighters, tug and barge traffic, and recreational vessels. Vessels that can pass under the bridge without a bridge opening may continue to do so at anytime. There are no alternate routes for vessels transiting this section of the Cape Fear River. The drawbridge will be able to open in the event of an emergency. The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the drawbridge must return to its regular operating schedule immediately at the end of the effective period of this temporary deviation. This deviation from the operating regulations is authorized under 33 CFR 117.35.

Dated: February 6, 2014.
Waverly W. Gregory, Jr.,
Bridge Program Manager, Fifth Coast Guard District.

[FR Doc. 2014-03307 Filed 2-13-14; 8:45 am]

BILLING CODE 9110-04-P